DEPARTMENT OF COMMERCE

Census Bureau

Proposed Information Collection; Comment Request; 2014 Census Site Test

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 24, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Erin Love, Census Bureau, HQ-3H468E, Washington, DC 20233; (301) 763-2034 (or via email at erin.s.love@census.gov).

SUPPLEMENTARY INFORMATION:

I. Abstract

During the years preceding the 2020 Census, the Census Bureau will pursue its commitment to reduce the costs of conducting a decennial census, while striving to maintain the level of quality it achieved for previous ones. A primary decennial census cost driver is the collection of data from members of the public for which the Census Bureau received no reply via initially offered response options. Increasing the number of people who take advantage of self-response options and improving our methods for enumerating people who do not initially respond can contribute to a less costly census with high-quality results, reducing the need for more costly enumerator-administered options.

The 2014 Census Site Test will allow the Census Bureau to, on a small scale, employ a variety of new methods and advanced technologies that are under consideration for the 2020 Census. To improve self-response, the Census Bureau plans to test new contact and notification strategies such as allowing respondents to pre-register their email address, cell phone number/text, mailing address, and physical location, and provide a preference for a contact strategy of either email or text. Furthermore, participants will have the option of responding to the test via multiple response modes including the Internet, paper questionnaires, and telephone interviews. In addition, the 2014 Census Site Test provides an opportunity for the Census Bureau to test potential enhancements to its automated processing of responses lacking a pre-assigned Census identification (ID) number. To optimize the self-response testing, there will be a communications and promotional campaign designed to increase awareness and encourage participation by potential respondents.

Even though self-response is encouraged, there will be households that do not respond and therefore there is a need to test strategies to most effectively and efficiently collect information for those households. The 2014 Census Site Test will examine reducing the total number of contacts made to a household during the Nonresponse Follow-Up (NRFU) operation as well as adapting the number and type of contacts made to a household based on information we have about that household. As well, this test will employ various uses of administrative records, most notably the removal of cases through the use of administrative records data either before or during the field work with the goal to reduce NRFU costs and increase interviewer efficiency. This test of NRFU operations will be accomplished by utilizing an automated field data collection instrument. Additionally, the Census Bureau will experiment with employee-owned commercially available devices on which a custom developed data collection application can be provided, commonly referred to as Bring Your Own Device (BYOD).

II. Method of Collection

The Census Bureau will conduct this test in Washington, DC and Montgomery County, MD. This geographic site test will include 192,500 Housing Units to be contacted for the census. This component includes an initial self-response phase that is followed by a NRFU phase for no more than 50,000 non-responding housing units. The households in NRFU are those who have failed to self-respond by a certain deadline. A Census Bureau employee may visit or phone these households and will attempt to collect their questionnaire data.

For the self-response phase, the Census Bureau will randomly assign sampled housing units to one of eight different contact and enumeration strategies. Each strategy aims to increase the use of self-response enumeration in a decennial census. Most sampled housing units will initially receive a pre-notification containing instructions about how to respond to the test online. Some households will receive a notice that allows respondents to pre-register for the Census and to notify the Census Bureau of their communication preference such as email or text/cell phone. The telephone assistance option will be available to all households. Respondents who become aware of the test can respond by going to the Internet site or contacting the Telephone Questionnaire Assistance line. For those participants who have not responded within an allotted time period, the Census Bureau will attempt to contact them additional times, which will include reminders by email or a final reminder along with a paper questionnaire by mail.

If a household does not respond by a certain date, it will be included in the universe for the NRFU portion of the test. There are three major NRFU treatments being tested in the 2014 Census Site Test. First, the Tailored Contact Strategies portion will research and test ways of reducing the cost of in-person follow-up for cases sent to the field by finding ways to streamline operations to promote efficiencies (such as reducing the number of contact attempts), while striving to maintain quality. In addition, the project will use 2010 Census field procedures to use as a control group from which to compare results.

Second, the Adaptive Design Strategies portion will test a method of managing data collection by dynamically adapting contact attempt strategies on a per case basis using paradata and business rules to inform real-time management decisions. Principles associated with adaptive design such as using alternative modes of contact and using paradata to model the likelihood for a household to respond to repeated contact attempts will be applied to the NRFU workload in an attempt to lower field costs.

Third, the Administrative Records portion of the NRFU operations will reduce NRFU workloads at various stages of fieldwork. Some areas (in both the Tailored Contact and Adaptive Design portions described above) will have their NRFU workload reduced because administrative records information will be utilized to enumerate households that have been determined to be vacant or occupied and therefore do not require fieldwork. In other areas, administrative records information will be utilized to only enumerate unoccupied units that do not require field work. Administrative records will also be used to enumerate households for which a number of unsuccessful contact attempts have been made in the field in lieu of additional contact attempts. Overall, using administrative records information to remove non-responding cases from the field workload may reduce costs associated with NRFU operations.

The geographic area contains two strata, based on relative levels of response. The strata include distinct geographic areas that will correspond with different contact strategies. This mix of levels of response will allow the Census Bureau to gather cost data associated with mileage and hours spent traveling to housing units and interviewing respondents during NRFU operations. In addition, Time and Motion studies will be conducted.

For the 2014 Census Site Test, the Census Bureau will test the use of an automated enumeration device in field operations. The enumeration device is a new development effort with the goal of replacing paper based data collection methods historically used in decennial operations such as Nonresponse Follow-Up (NRFU). The test will help evaluate:

• The effectiveness of conducting a field operation with the use of consumer grade devices (e.g. iPhones and iPads).

• The effectiveness of replacing traditional paper maps with Google Maps for locating housing units for enumeration activities.

In addition, for follow-on to the 2014 Census Site Test, the Census Bureau will experiment with using employee owned commercially owned smartphones to conduct the NRFU. The use of employee owned equipment/services is commonly referred to as Bring Your Own Device or BYOD. A sample of 250 households will be contacted at the end of the field operation using this methodology. The objectives of this component of the test are to:

• Design and develop software solutions, deployment, and support processes that run on commercially available employee owned mobile devices (i.e., iPhone).

• Deploy and support secure software solutions that can be installed on commercially available employee owned mobile devices.

• Conduct interviews of respondents using employee owned mobile devices (i.e., iPhone).

• Capture lessons learned.

III. Data

OMB Control Number: None.

Form Number: Paper questionnaires: DC-1A and DC-1B; electronic questionnaires with numbers as yet to be determined.

Type of Review: Regular submission.

Affected Public: Individuals or Households.

Estimated Number of Respondents: 192,500.

Estimated Time Per Response: 10 minutes per response.

Estimated Total Annual Burden Hours: 32,083.

Estimated Total Annual Cost: Respondents who are contacted by cell phone and/or text message may incur charges depending on their plan with their service provider. The Census Bureau estimates that the total cost to respondents will be no more than $840,000. There are no other costs to respondents other than their time to participate in this data collection.

Respondents Obligation: Mandatory.

Legal Authority: Title 13 U.S.C. 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2013.
Glenna Mickelson,
Management Analyst, Office of the Chief Information Officer.

[FR Doc. 2013-30611 Filed 12-23-13; 8:45 am]

BILLING CODE 3510-07-P